DEPARTMENT OF VETERANS AFFAIRS

Advisory Committee on Cemeteries and Memorials, Notice of Meeting

The Department of Veterans Affairs (VA) gives notice under the Federal Advisory Committee Act, 5 U.S.C. App. 2, that a virtual meeting of the Advisory Committee on Cemeteries and Memorials will be held on October 13, 2021-October 14, 2021. The meeting sessions will begin and ends as follows:

Date: | Time:
Wednesday, October 13, 2021 | 11:00 a.m. to 3:30 p.m. EST.
Thursday, October 14, 2021 | 11:00 a.m. to 3:30 p.m. EST.

The meeting sessions are open to the public. If you are interested in attending the meeting virtually, the dial-in number for both days is 1-404-397-1596, Access Code: 2761 236 4634#, No attendee number, press # again.

The purpose of the Committee is to advise the Secretary of Veterans Affairs on the administration of national cemeteries, soldiers' lots and plots, the selection of new national cemetery sites, the erection of appropriate memorials, and the adequacy of Federal burial benefits. The Committee will make recommendations to the Secretary regarding such activities.

On Wednesday, October 13, 2021, the agenda will include remarks by VA Leadership; appointment of new members; status update on Tribal/National Cemetery Mentorship Program; status update on Veterans Cemetery Grant Program; status update on National Cemetery Scheduling Office and Pre-Need Eligibility Determinations; and public comments.

On Thursday, October 14, 2021, the agenda will include a remarks and recap from committee chair; status update from the Native American/Alaskan Veteran Workgroup; status update from the HR 7105 Urn/Commemorative Plaque Workgroup; status update from the Outreach Workgroup; discussion on outreach and memorialization efforts; public comments; and open discussion.

Any member of the public wishing to attend the meeting should contact Ms. Christine Hamilton, Designated Federal Officer at christine.hamilton1@va.gov or 202-461-5681. Ms. Hamilton will provide the meeting link and documents upon request. Written comments may also be submitted to the committee. In the public's communications with the Committee, the writers must identify themselves and state the organizations, associations, or persons they represent.

Dated: September 28, 2021.
Jelessa M. Burney,
Federal Advisory Committee Management Officer.

[FR Doc. 2021-21462 Filed 10-1-21; 8:45 am]

BILLING CODE P